ENVIRONMENTAL PROTECTION AGENCY

[FRL-8955-5]

Tentative Approval and Solicitation of Request for a Public Hearing for Public Water System Supervision Program Revision for New Jersey

AGENCY: Environmental Protection Agency.

ACTION: Notice.

SUMMARY: Notice is hereby given that the State of New Jersey is revising its approved Public Water System Supervision Program to adopt EPA's National Primary Drinking Water Regulations for one major rule and six minor revisions and/or corrections. The EPA has determined that these revisions are no less stringent than the corresponding Federal regulations. Therefore, the EPA intends to approve these program revisions. All interested parties may request a public hearing.

DATES: This determination to approve New Jersey's primacy program revision application is made pursuant to 40 CFR 142.12(d)(3). It shall become final and effective unless (1) a timely and appropriate request for a public hearing is received or (2) the Regional Administrator elects to hold a public hearing on his own motion. Any interested person, other than Federal Agencies, may request a public hearing. A request for a public hearing must be submitted to the Regional Administrator at the address shown below by October 21, 2009. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on his own motion, this determination shall become final and effective October 21, 2009.

ADDRESSES: Any request for a public hearing shall include the following information: (1) Name, address and telephone number of the individual, organization or other entity requesting a hearing; (2) a brief statement of the requesting person's interest in the Regional Administrator's determination and a brief statement on information that the requesting person intends to submit at such hearing; (3) the signature of the individual making the requests or, if the request is made on behalf of an organization or other entity, the signature of a responsible official of the organization or other entity. Requests for Public Hearing shall be addressed to: Regional Administrator, U.S. Environmental Protection Agency—Region 2, 290 Broadway, New York, New York 10007-1866.

All documents relating to this determination are available for inspection between the hours of 9 a.m. and 4:30 p.m., Monday through Friday, at the following offices:

New Jersey Department of Environmental Protection, P.O. Box CN-426, 401 East State Street, Floor 3, Trenton, New Jersey 08625-0426.

U.S. Environmental Protection Agency—Region 2, 24th Floor Drinking Water Ground Water Protection Section, 290 Broadway, New York, New York 10007-1866.

FOR FURTHER INFORMATION CONTACT: Michael J. Lowy, Drinking Water Ground Water Protection Section, U.S. Environmental Protection Agency—Region 2, (212) 637-3830.

SUPPLEMENTARY INFORMATION: Notice is hereby given that the United States Environmental Protection Agency (EPA) has determined to approve an application by the State of New Jersey Department of Environmental Protection to revise its Public Water Supply Supervision Primacy Program to incorporate regulations no less stringent than the EPA's National Primary Drinking Water Regulations (NPDWR) for Arsenic and Clarifications to Compliance and New Source Contaminants Monitoring; Final Rule; promulgated by EPA January 22, 2001 (66 FR 6976), Revision to IESWTR/Stage 1 DBPR, Revision to State Primacy Requirement to Implement SDWA Amendments; promulgated by EPA February 12, 2001 (66 FR 9903), Methods Update Final Rule; Final Rule; promulgated by EPA October 23, 202 (67 FR 65220), National Primary Drinking Water Regulations Minor Revisions to PN Rule, CCR Rule, Primacy Rule; Final Rule; promulgated by EPA November 27, 2002 (67 FR 70850), Approval of Additional Methods for the Detection of Coliforms and E. coli; Final Rule; promulgated by EPA February 13, 2004 (69 FR 7156), Minor Corrections and Clarification to Drinking Water Regulations, National Primary Drinking Water Regulations for Lead and Copper Rule; Final Rule; promulgated by EPA June 29, 2004 (69 FR 38850), Analytical Method for Uranium; Final Rule; promulgated by EPA August 25, 2004 (69 FR 52176).

The application demonstrates that New Jersey has adopted drinking water regulations which satisfy the NPDWRs for the above. The USEPA has determined that New Jersey's regulations are no less stringent than the corresponding Federal Regulations and that New Jersey continues to meet all requirements for primary enforcement responsibility as specified in 40 CFR 142.10.

Authority: (Section 1413 of the Safe Drinking Water Act, as amended, 40 U.S.C. 300g-2, and 40 CFR 142.10, 142.12(d) and 142.13).

Dated: August 17, 2009.
Barbara Finazzo,
Acting Regional Administrator, Region 2.

[FR Doc. E9-22619 Filed 9-18-09; 8:45 am]

BILLING CODE 6560-50-P